DEPARTMENT OF THE INTERIOR

Fish and Wildlife Service

50 CFR Part 17

RIN 1018-AH33

Endangered and Threatened Wildlife and Plants; Designating Critical Habitat for the Appalachian Elktoe

AGENCY: Fish and Wildlife Service, Interior.

ACTION: Proposed rule; notice of public hearings, availability of draft economic analysis, and reopening of comment period for the proposed designation of critical habitat for the Appalachian elktoe.

SUMMARY: We, the Fish and Wildlife Service, announce that we will hold two public hearings on the proposed determination of critical habitat for the Appalachian elktoe (Alasmidonta raveneliana) and that the comment period on this proposal is reopened. We also announce the availability of the draft economic analysis of this proposed designation of critical habitat. We are reopening the comment period for the proposal to designate critical habitat for this species to hold the public hearings and to allow all interested parties to comment simultaneously on the proposed rule and the associated draft economic analysis. Comments previously submitted need not be resubmitted and will be fully considered in the final determination of the proposal.

DATES: Comments: The comment period is hereby reopened until July 1, 2002. We must receive comments on the proposal and draft economic analysis from all interested parties by the closing date. Any comments that we receive after the closing date will not be considered in the final decision on this proposal.

Public Hearings: The first public hearing on the proposal will be held June 4, 2002, from 6 p.m. to 9 p.m. in Erwin, TN, and the second, on June 6, 2002, from 6 p.m. to 9 p.m. in Bryson City, NC.

ADDRESSES: The first public hearing will be held in the auditorium of the Unicoi County High School, 700 Mohawk Drive, Erwin, TN. The second public hearing will be held in the Swain County Administration Building, Superior Court Room, 101 Mitchell Street, Bryson City, NC.

Copies of the draft economic analysis are available on the Internet at http://southeast.fws.gov/hotissues or by writing to or calling the State Supervisor, Asheville Field Office, U.S. Fish and Wildlife Service, 160 Zillicoa Street, Asheville, NC 28801; telephone 828/258-3939.

If you wish to comment, you may submit your comments by any one of several methods:

1. You may submit written comments and information to the State Supervisor, Asheville Field Office, U.S. Fish and Wildlife Service, 160 Zillicoa Street, Asheville, NC 28801.

2. You may hand-deliver written comments to our Asheville Field Office, at the above address or fax your comments to 828/258-5330.

3. You may send comments by electronic mail (e-mail) to john_fridell@fws.gov. For directions on how to submit electronic filing of comments, see the “Public Comments Solicited” section.

4. You may provide oral and/or written comments at either of the public hearings.

Comments and materials received, as well as supporting documentation used in preparation of this proposed rule, will be available for public inspection, by appointment, during normal business hours at the above address.

FOR FURTHER INFORMATION CONTACT: Mr. John A. Fridell, Fish and Wildlife Biologist, Asheville Field Office (see ADDRESSES section) (telephone 828/258-3939, extension 225).

SUPPLEMENTARY INFORMATION:

Background

The Appalachian elktoe is endemic to the upper Tennessee River drainage in western North Carolina and eastern Tennessee. Historic and recent records indicate that the species was once fairly widely distributed throughout the upper Tennessee River system in western North Carolina, with the possible exceptions of the Hiwassee and Watauga River systems. In Tennessee, the species is known only from a short reach of the Nolichucky River above the town of Erwin in Unicoi County, TN. Presently, the Appalachian elktoe survives only in scattered pockets of suitable habitat in portions of the Little Tennessee River system, Little River, and Pigeon River system in North Carolina; and, in portions of the Nolichucky River system in North Carolina and Tennessee. Numerous factors have been implicated as having contributed to decline and loss of populations of the Appalachian elktoe including pollutants in wastewater discharges; the runoff of sediment and other pollutants in poorly controlled runoff from land disturbance activities, and habitat destruction or alteration from impoundments, channelization, and in-stream dredging activities.

We listed the Appalachian elktoe as an endangered species under the Endangered Species Act of 1973, as amended (Act), on November 23, 1994 (59 FR 60324). On February 8, 2001, we published in the Federal Register a proposal to designate critical habitat for this species (66 FR 9540). The proposed designation includes 38.5 kilometers (km) (24.0 river miles (rm)) of the Little Tennessee River in Swain and Macon Counties, NC; 41.6 km (26.0 rm) of the Tuckasegee River in Jackson and Swain Counties, NC; 14.6 km (9.1 rm) of the Cheoah River in Graham County, NC; 7.5 km (4.7 rm) of the Little River in Transylvania County, NC; 17.8 km (11.1 rm) of the West Fork Pigeon River and the Pigeon River in Haywood County, NC; 22.6 km (14.1 rm) of the South Toe River and 26.4 km (16.5 rm) of the Cane River in Yancey County, NC; 5.9 km (3.7 rm) of the North Toe River and 34.6 km (21.6 rm) of the Toe River in Yancey and Mitchell Counties, NC; and 21.6 km (13.5 rm) of the Nolichucky River in Yancey and Mitchell Counties, NC, and Unicoi County, TN. The initial comment period on the proposal closed on April 9, 2001.

Section 4(b)(5)(E) of the Act requires that a public hearing be held if requested within 45 days of the proposal's publication in the Federal Register. Two groups requested public hearings within the specified timeframe of the initial comment period. One group requested hearings in every county where critical habitat is proposed; the other group requested hearings in every watershed where critical habitat is proposed. We will hold one public hearing in each State where we have proposed critical habitat to accommodate both requests (see DATES and ADDRESSES sections).

Section 4(b)(2) of the Act requires that we designate or revise critical habitat based upon the best scientific data available and after taking into consideration the economic impact, and any other relevant impact, of specifying any particular area as critical habitat. We may exclude an area from critical habitat if we determine that the benefits of excluding the area outweigh the benefits of including the area as critical habitat, provided such exclusion will not result in the extinction of the species. Consequently, we have prepared a draft economic analysis concerning the proposed critical habitat designation, which is available for review and comment (see ADDRESSES section).

Public Comments Solicited

We solicit comments on the draft economic analysis described in this notice, as well as any other aspect of the proposed designation of critical habitat for the Appalachian elktoe. Anyone wishing to make an oral statement for the record at the public hearings is encouraged to provide a written copy of their statement to us at the start of the hearing. In the event there is a large attendance, the time allotted for oral statements may have to be limited. Oral and written statements receive equal consideration. There are no limits to the length of written comments presented at the hearings or mailed to us. Our final determination on the proposed critical habitat will take into consideration comments and any additional information received by the date specified above. All previous comments and information submitted during the comment period need not be resubmitted. Written comments may be submitted to the State Supervisor (see ADDRESSES section).

Please submit electronic comments as an ASCII file format and avoid the use of special characters and encryption. Please also include “Attn: RIN 1018-AH33” and your name and return address in your e-mail message. If you do not receive a confirmation from the system that we have received your e-mail message, please contact us directly by calling our Asheville Field Office (see ADDRESSES section).

Our practice is to make all comments, including names and home addresses of respondents, available for public review during regular business hours. Individual respondents may request that we withhold their home address from the rulemaking record, which we will honor to the extent allowable by law. In some circumstances, we would withhold from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Author

The primary author of this document is John A. Fridell (see ADDRESSES section).

Authority: The authority for this action is the Endangered Species Act of 1973 (16 U.S.C. 1531 et seq.).

Dated: April 26, 2002.
Craig Manson,
Assistant Secretary for Fish and Wildlife and Parks.

[FR Doc. 02-12175 Filed 5-15-02; 8:45 am]

BILLING CODE 4310-55-P